ENVIRONMENTAL PROTECTION AGENCY

[EPA-HQ-OW-2006-0408; FRL-10025-72-OMS]

Information Collection Request Submitted to OMB for Review and Approval; Comment Request; EPA's WaterSense Program (Renewal)

AGENCY: Environmental Protection Agency (EPA).

ACTION: Notice.

SUMMARY: The Environmental Protection Agency (EPA) has submitted an information collection request (ICR), EPA's WaterSense Program (EPA ICR Number 2233.08, OMB Control Number 2040-0272) to the Office of Management and Budget (OMB) for review and approval in accordance with the Paperwork Reduction Act. This is a proposed extension of the ICR, which is currently approved through June 30, 2021. Public comments were previously requested via the Federal Register on February 24, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 30, 2021.

ADDRESSES: Submit your comments to EPA, referencing Docket ID No. EPA-HQ-OW-2006-0408 online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Tara O'Hare, WaterSense Branch, Water Infrastructure Division, Office of Wastewater Management, Office of Water, (Mail Code 4204M), Environmental Protection Agency, 1200 Pennsylvania Ave. NW, Washington, DC 20460; telephone number: 202-564-8836; email address: ohare.tara@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: WaterSense is a voluntary program designed to promote use of water-efficient products and services via a common label. The label provides an incentive for manufacturers and builders to design, produce, and market water-efficient products and homes. Data collected under this ICR will assist WaterSense in demonstrating results and carrying out evaluation efforts to ensure continual program improvement. Shipment and sales data submitted by WaterSense manufacturer and retailer/distributor partners are collected as confidential business information (CBI) using the procedures outlined in the WaterSense CBI security plan under the Clean Water Act.

As a terms of clearance for the previous ICR, EPA was required to address comments on an April 2020 Federal Register notice (85 FR 20268) that sought input on whether and how the program could better understand and collect information on consumer satisfaction with labeled products. As summarized in the supporting statement, there was no support for conducting a survey or study on consumer satisfaction for use in future product reviews. There was, however, support for a general survey to provide information to improve awareness of the WaterSense label, which is covered under this ICR.

Form Numbers

• Partnership Agreements: Builders 6100-19; Licensed Certification Providers 6100-20; Manufacturers 6100-13; Professional Certifying Organizations 6100-07; Promotional partners 6100-06; Retailers/distributors 6100-12

• Application for Professional Certifying Organization Approval 6100-X3

• Annual Reporting Forms: Builders 6100-09; Professional Certifying Organizations 6100-09; Promotional partners 6100-09

• Annual Reporting Forms—Online and Hard-copy Confidential Business Information (CBI) Forms: Plumbing Manufacturers 6100-09; Non-plumbing Manufacturers 6100-09; Retailers/Distributors 6100-09

• Provider Quarterly Reporting Form 6100-09

• Award Application Forms: Builders 6100-17; Licensed Certification Providers 6100-17; Manufacturers 6100-17; Professional Certifying Organizations 6100-17; Promotional Partners 6100-17; Retailers/Distributors 6100-17

• Consumer Awareness Survey 6100-X2

Respondents/affected entities: Respondents will consist of WaterSense partners and participants in the consumer survey. WaterSense partners include product manufacturers; professional certifying organizations; retailers; distributors; utilities; federal, state, and local governments; home builders; licensed certification providers; and non-governmental organizations (NGOs).

Respondent's obligation to respond: Voluntary.

Estimated number of respondents: 2,561 (total).

Frequency of response: Once a prospective partner organization reviews WaterSense materials and decides to join the program, it will submit the appropriate Partnership Agreement for its partnership category (this form is only submitted once). Professional Certifying Organizations must include additional documentation to begin their partnership by completing an Application for Professional Certifying Organization Approval (this form is only submitted once). Each year, EPA also asks partners to submit an Annual Reporting Form and Awards Application (voluntarily at the partner's discretion). Licensed certification providers for WaterSense-labeled new homes are asked to submit a Provider Quarterly Reporting Form four times each year. EPA also may conduct two Consumer Awareness Surveys over the three-year period of the ICR.

Total estimated burden: 3,212 hours per year. Burden is defined at 5 CFR 1320.03(b).

Total estimated cost: $293,189 per year, includes $905 annualized operation & maintenance costs.

Changes in the estimates: There is no change in burden compared with the ICR currently approved by OMB.

Courtney Kerwin,
Director, Regulatory Support Division.

[FR Doc. 2021-13946 Filed 6-29-21; 8:45 am]

BILLING CODE 6560-50-P